DEPARTMENT OF TRANSPORTATION

Federal Transit Administration

Public Transportation Innovation Funding Opportunity; Mobility on Demand (MOD) Sandbox Demonstration Program

AGENCY: Federal Transit Administration (FTA), DOT. Funding Opportunity Number: FTA-2016-006-TRI Catalog of Federal Domestic Assistance (CFDA) Number: 20.514

ACTION: Notice of Funding Opportunity (NOFO) and Solicitation of Project Proposals for the Mobility on Demand (MOD) Sandbox Demonstration Program.

SUMMARY: The Federal Transit Administration (FTA) announces the availability of $8 Million in Fiscal Year (FY) 2014 and FY 2016 research funds, for a new program to demonstrate and evaluate innovative approaches to integrated “Mobility on Demand” (MOD) solutions within a public transportation framework. The MOD Sandbox Demonstration Program is intended to provide a platform where integrated MOD concepts and solutions are supported and demonstrated through local partnerships in a real-world setting. FTA will fund project teams to adopt innovative business models to deliver high quality, seamless and equitable mobility options for all travelers. The MOD Sandbox further emphasizes FTA's interest in transit and mobility innovation, and builds upon FTA's recent XPEDITE Innovation initiative, which sought industry input through an online dialogue on transit innovation, particularly technology trends that increase public transportation efficiency, effectiveness and enhance the quality of customer travel.

This notice also includes: (1) Reference to a number of areas for demonstrations of particular interest to FTA (to be used to guide but not limit innovative proposal concepts), (2) criteria that the FTA will use to identify projects for funding, and (3) the process for applying for the funding.

This announcement is available on the FTA Web site at: http://www.fta.dot.gov. A synopsis of this funding opportunity will be posted in the FIND module of the government-wide electronic grants Web site at http://www.GRANTS.GOV. FTA will announce final selections on the FTA Web site and may also announce selections in the Federal Register.

DATES: Complete proposals are due by 11:59 p.m. EDT on July 5, 2016. Complete proposals must be submitted electronically through the GRANTS.GOV APPLY function. Prospective applicants should initiate the process by registering on the GRANTS.GOV site promptly to ensure completion of the application process before the submission deadline. Instructions for applying can be found on FTA's Web site at http://www.fta.dot.gov/grants/13077.html and in the “find” module of grants.gov.

FOR FURTHER INFORMATION CONTACT: Please send any questions on this notice to MODsandbox@dot.gov, or contact Christina Gikakis, MOD Program Manager, Office of Research, Demonstration and Innovation, (202) 366-2637, or christina.gikakis@dot.gov.

SUPPLEMENTARY INFORMATION:

Table of Contents

A. Program Description

B. Federal Award Information

C. Eligibility Information

1. Eligible Applicants

2. Eligible Projects

3. Cost Sharing or Matching

4. Other Requirements

D. Application and Submission Information

1. Address and Form of Application Submission

2. Proposal Content

3. Unique Entity Identifier and System for Award Management (SAM)

4. Submission Dates and Times

5. Funding Restrictions

E. Application Review

1. Selection Criteria

2. Review and Selection Process

F. Federal Award Administration

1. Federal Award Notice

2. Administrative and National Policy Requirements

G. Federal Awarding Agency Contacts

A. Program Description

The MOD Sandbox Demonstration Program is part of a larger MOD research effort at FTA and the U.S. Department of Transportation (DOT) that seeks to support transit agencies and communities as they navigate the dynamic, evolving landscape of personal mobility and integrated multimodal transportation networks.

The goals of FTA's mobility research, in general, are to:

• Improve transportation efficiency by promoting agile, responsive, accessible, and seamless multimodal service inclusive of transit through enabling technologies and innovative partnerships.

• Increase transportation effectiveness by ensuring that transit is fully integrated and a vital element of a regional transport network that provides consistent, reliable and accessible service to every traveler.

• Enhance the customer experience by providing each individual equitable, accessible, traveler-centric service leveraging public transportation's long-standing capability and traditional role in this respect.

The primary objectives of this MOD Sandbox Demonstration Program are to:

• Enhance transit industry preparedness for MOD.

• Assist the transit industry to develop the ability to integrate MOD practices with existing transit service.

• Validate the technical and institutional feasibility of innovative MOD business models and document MOD best practices that may emerge from the demonstrations.

• Measure the impacts of MOD on travelers and transportation systems.

• Examine relevant public sector and federal requirements, regulations and policies that may support or impede transit sector adoption of MOD.

The market for personal mobility is changing rapidly due, in part, to changing social and cultural trends as well as to technological advances, such as smart phones, information processing and widespread data connectivity. New mobility concepts and solutions, from bike and car sharing systems to innovative demand response bus services, are providing travelers with new, flexible and tailored transportation options. These developments already are impacting the traditional transit market, and could conceivably disrupt current business and funding models.

MOD envisions a multimodal, integrated, automated, accessible, and connected transportation system in which personalized mobility is a key objective. MOD enables the use of on-demand information, real-time data, and predictive analysis to provide individual travelers with transportation choices that best serve their specific needs and circumstances. MOD leverages technologies that allow for a traveler-centric approach by providing improved mobility options for all.

As envisioned, the MOD Sandbox Demonstration Program provides a forum where integrated MOD concepts and solutions supported through local partnerships are demonstrated in a real-world setting. FTA seeks to fund project teams seeking to participate in the MOD Sandbox Program through demonstrations of MOD solutions integrated with existing public transportation options.

The MOD Sandbox provides a space for project teams to innovate, explore partnerships, develop new business models, integrate transit and MOD solutions, and investigate new, enabling technical capabilities such as integrated or open payment systems, vehicle prioritization schemes, or incentives for influencing traveler choices. The MOD Sandbox will provide FTA the opportunity to measure project impacts, and, importantly, assess how existing FTA policies and regulations may support or impede these new service transportation models through evaluation of all project efforts.

The MOD Sandbox guiding principles are:

• System Integration—the MOD Sandbox Program seeks operational integration of MOD products and services with existing transit service. Examples of this include open data platforms, common user interfaces, and practices and technologies that encourage and ensure system interoperability.

• Partnership Driven—MOD Sandbox projects should demonstrate teaming efforts, from public and private sectors, with partners committed to supporting the proposed MOD project both technically and institutionally.

• Innovative Business Model—the MOD Sandbox is structured to encourage innovative business models where MOD solution providers and transit operators partner to collectively deliver better service to travelers, while mutually benefitting from the partnership.

• Equity of Service Delivery—MOD Sandbox projects will demonstrate and promote equitable mobility service for all travelers, including communities such as low income, the aging population, and persons with disabilities, including wheelchair users.

FTA expects that MOD Sandbox demonstration projects will be subject to current regulations and policies. However, FTA also understands that innovations in MOD may require new regulatory guidelines or changes to existing regulations and policies. As such, FTA encourages applicants to identify in their applications any regulatory or policy waivers needed for the implementation of the proposed demonstration. Such requests will be reviewed as part of the application process. Consequently, FTA will consider relaxing FTA rules and requirements as appropriate and where possible to advance innovative mobility services and business models. This also corresponds to comments received through FTA's online dialogue, known as the XPEDITE Innovation initiative, where the transit research community expressed interest in having FTA address barriers to implementing innovative demonstration projects, including examining policy and regulatory requirements.

B. Federal Award Information

Section 5312 of Title 49, United States Code, as amended by MAP-21 and the FAST Act, authorizes FTA's Research, Development, Demonstration and Deployment program. Through this program, FTA may make grants, or enter into contracts, cooperative agreements and other agreements for research, development, demonstration and deployment projects, and evaluation of research and technology of national significance to public transportation that the Secretary of Transportation determines will improve public transportation.

The MOD Sandbox projects are funded under Section 5312 program authority. A total of $8 Million in FY 2014 and FY 2016 funds are available for awards under this announcement. FTA intends to award multiple MOD Sandbox demonstration projects under this announcement.

FTA may, at its discretion, provide additional funds for selections made under this announcement or for additional meritorious proposals from funds made available by the FAST Act for Section 5312 of Title 49, United States Code. FTA seeks MOD Sandbox projects that can be implemented within 12 months of program award, and are demonstrated and evaluated for a minimum of 12 months.

FTA recognizes that the funding made available under this announcement for the Sandbox program may be insufficient to fund all meritorious projects. For meritorious projects not selected for funding, FTA may, at its discretion, invite project teams to take part in the Sandbox through a participation agreement that does not award MOD Sandbox Program funding to the project but provides project sponsors the flexibility that the program confers upon funded grantees. FTA would work with the project teams under these participation agreements to refine projects, determine eligibility of project activities, and review requests for waivers or deviations from certain requirements to allow projects to be implemented effectively and advance innovative MOD concepts and solutions.

C. Eligibility Information

1. Eligible Applicants

Eligible applicants under this notice are providers of public transportation, including public transit agencies, state/local government DOTs, and federally recognized Indian tribes. Eligible applicants must identify one or more strategic project partner(s) with a substantial interest and involvement in the project. Applications must clearly identify the eligible applicant and all project partners on the project team.

Eligible project partners under this program may include, but are not limited to:

a. Private for-profit and not-for-profit organizations, including shared use mobility providers, and technology system suppliers;

b. Operators of transportation services, such as employee shuttle services, airport connector services, university transportation systems, or parking and tolling authorities;

c. State or local government entities;

d. Other organizations that may contribute to the success of the project team including consultants, research consortia or not-for-profit industry organizations, and institutions of higher education.

The applicant must have the ability to carry out the proposed agreement and procurements, if needed, with project partners in compliance with Federal, State, and local laws. Applicants can designate any partner as a key partner that shares the costs, risks, and rewards of early deployment and demonstration of innovation. FTA may also determine that any named project partner in the proposal is a key partner and make any award conditional upon the participation of that key partner. A key partner is essential to the project as approved by FTA and is therefore eligible for a noncompetitive award by the applicant to provide the goods or services described in the application. A key partner's participation on a selected project may not later be substituted without FTA's knowledge and approval.

2. Eligible Projects

FTA is seeking bold and innovative ideas to demonstrate improved personal mobility using emerging technologies, applications, practices, and service models in concert with existing public transportation systems and resources. Eligible activities include all activities leading to the demonstration of the innovative MOD and transit integration concept, such as planning and developing business models, obtaining equipment and service, acquiring/developing software and hardware interfaces to implement the project, and operating the demonstration.

Eligible projects must respond to the guiding principles of the MOD Sandbox: System Integration; Partnership Driven; Innovative Business Model; and Equity of Service Delivery. Projects should also consider how to address accessibility for persons with disabilities, including persons who use wheelchairs, and for older Americans, affordability for individuals with lower incomes, impacts on the local community, broad access to mobility options for all travelers, payment options that can accommodate all users, including the unbanked, and provisions for leveraging the system for emergency transportation needs.

To help guide the thinking on developing a proposal, the following is a list of potential MOD applications that proponents may find helpful in scoping their prospective projects. FTA strongly encourages applicants to propose innovative approaches, business models, technology applications and collaborative partnerships that meet the guiding principles of the MOD Sandbox, satisfy the evaluation criteria, and support the demonstration of enhanced, traveler-centric mobility with public transportation as an integrated component.

Innovative Use Cases

• First mile/last mile connectivity

• Provisioning of ADA paratransit services

• Urban center/community short distance mobility

• Off-peak, late night services

• Human service transportation (e.g., Rides to Wellness)

• Service disruption/incident management preparedness

• Local land use and development incentives (e.g., retirement communities)

• Integration or support for use of zero-emission technologies and vehicles

• Congestion mitigation

Collaborative Multimodal Service

• Augmentation of existing public transportation resources

• Shared-use, on demand services

• Paratransit, demand-response services

• Parking/tolling applications

• Employee, neighborhood or campus shuttles

• Enhanced airport ground transportation

• Intercity services

Enabling Technologies and Enhanced Service Capabilities

• Integrated or open payment systems

• Internet of Things/Smart City applications

• Advanced traveler information systems

• Traveler decision support systems

• Gamification as traveler engagement tools (such as games, rewards, and incentives)

• Crowdsourcing of travel information

• Open data and big data analytics

• Connected/automated vehicles

3. Cost Sharing or Matching

The federal share of project costs under this program is limited to 80 percent. Proposers may seek a lower Federal contribution. The applicant must provide the local share of the net project cost in cash, or in-kind, and must document in its application the source of the local match. Eligible sources of local match are detailed in FTA Research Circular 6100.1E. (available at http://www.fta.dot.gov/legislation_law/12349_16434.html).

4. Other Requirements

a. Evaluation and Data Requirements

In order to achieve a comprehensive understanding of the impacts and implications of each proposed MOD business model and demonstration, FTA, or its designated independent evaluator, requires access to project data. Projects should include a data capture component that allows for the reliable and consistent collection of information relevant to gauging the impact and outcomes of the demonstration.

At any time during the period of performance, the project team may be requested to coordinate data collection activities in order to provide interim information under the requirements of this award. A project team may be asked to provide the data directly to FTA or to a designated independent evaluator. This information, if requested, will be used to conduct program evaluation during the execution of the project and after it has been completed.

All information submitted as part of or in support of the MOD Sandbox project shall use publicly available data or data that can be made public and methodologies that are accepted by industry practice and standards, to the extent possible. If the submission includes information the applicant considers to be trade secret or confidential commercial or financial information, the applicant should do the following: (1) Note on the front cover that the submission “Contains Confidential Business Information (CBI)”; (2) mark each affected page “CBI”; and (3) highlight or otherwise denote the CBI portions. FTA protects such information from disclosure to the extent allowed under applicable law. In the event that FTA receives a Freedom of Information Act (FOIA) request for the information, FTA will follow the procedures described in the U.S. DOT FOIA regulations at 49 CFR 7.17. Only information that is ultimately determined to be confidential under that procedure will be exempt from disclosure under FOIA. Should FTA receive an order from a court of competent jurisdiction ordering the release of the information, FTA will provide applicant timely notice of such order to allow the applicant the opportunity to challenge such an order. FTA will not challenge a court order on behalf of applicant.

b. Participation in Information Exchange

MOD Sandbox teams may be asked to participate in MOD information exchange meetings, webinars, or outreach events where MOD Sandbox teams share information with other teams and the mobility industry on the progress and results of their MOD Sandbox activities. These sessions will assist the FTA in identifying policy and implementation issues as they emerge.

D. Application and Submission Information

1. Address and Form of Application Submission

Project proposals must be submitted electronically through http://www.GRANTS.GOV. Mail and fax submissions will not be accepted.

A complete proposal submission will consist of at least two files: (1) The SF 424 Mandatory form (downloaded from GRANTS.GOV); (2) the Applicant and Proposal Profile supplemental form for MOD Sandbox Program (supplemental form) found on the FTA Web site at http://www.transit.dot.gov/research-innovation/mobility-demand-mod-sandbox-program.html. The supplemental form provides guidance and a consistent format for proposers to respond to the criteria outlined in this NOFO, and enables FTA to collect information to evaluate proposal submissions as described in section D.2 of this notice “Proposal Content”. Proposers must use the supplemental form designated for the MOD Sandbox Program and attach it to their submission in GRANTS.GOV to successfully complete the application process. A proposal submission may contain additional supporting documentation as attachments.

Within 48 hours after submitting an electronic application, the applicant should receive three email messages from GRANTS.GOV: (1) Confirmation of successful transmission to GRANTS.GOV, (2) confirmation of successful validation by GRANTS.GOV, and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

FTA urges proposers to submit their applications at least 72 hours prior to the due date to allow time to receive the validation messages and to correct any problems that may have caused a rejection notification. FTA will not accept submissions after the stated submission deadline. GRANTS.GOV scheduled maintenance and outage times are announced on the GRANTS.GOV Web site at http://www.GRANTS.GOV. Deadlines will not be extended due to scheduled maintenance or outages.

Proposers are encouraged to begin the process of registration on the GRANTS.GOV site well in advance of the submission deadline. Registration is a multi-step process, which may take several weeks to complete before an application can be submitted. Registered proposers may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in the Appendix.

Information such as proposer name, Federal amount requested, local match amount, description of transportation service, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent.

2. Proposal Content

At a minimum, every proposal must include an SF-424 form, with the Applicant and a Proposal Profile supplemental form attached. The Applicant and Proposal Profile supplemental form for MOD Sandbox Program found on the FTA Web site at http://www.transit.dot.gov/research-innovation/mobility-demand-mod-sandbox-program.html.

All applicants are required to provide detailed information on the Applicant and Proposal Profile supplemental form, including:

a. A discussion of the overall goals of the proposed project, including the current state of MOD practices in the community or service area of the proposed project, current challenges in providing robust, flexible and accessible transportation options, integration challenges or gaps, and how the proposed project will address those needs. The discussion should include a description of the current opportunities to improve mobility choices for all, and if applicable, recent trends or developments (local and/or national) that make this proposed project particularly timely.

b. A description of the proposed project scope to include all MOD products and services that the project will incorporate, including a description of the MOD interface technology that will be developed or acquired to integrate the MOD project elements with local transit services.

c. A description of the project partners, their roles, and their anticipated contributions. Indicate which of the project partners are “key partners” essential to the success of the proposed project. Additionally, the project team is encouraged to provide letters of commitment or support from each of the project partners as well as any agreements among the project partners.

d. A description of the business model or approach that will be used to implement the MOD Sandbox demonstration project and any public/private partnerships formed to achieve the project objectives. Specify any unique or innovative approaches used to coordinate and coalesce the project partners.

e. A discussion of the expected outcomes and benefits of the proposed project to the individual travelers and the community.

f. A description of the extent to which the proposed project is replicable in other communities, and the national significance of the project, if any.

g. A description of how, and the extent to which the proposed project addresses accessible and equitable mobility service for all travelers, including communities such as low income, the aging population, and persons with disabilities, including wheelchair users.

h. A description of any exceptions or waivers to Federal, State or local requirements or policies that the project team seeks in order to successfully and fully implement the proposed project.

i. Details on types of data that will be generated and how the project team will provide access for FTA or its designee to this project-related data for purposes of evaluation.

j. A timeline of project implementation detailing all significant milestones and the roles of the responsible project partners. The timeline should include such elements as when the project will start, when it will be fully operational, and length of time for anticipated data collection activities.

k. Financials and Budget

i. Identify funding requirements for the proposed project, noting the specific sources and uses for the funds proposed, with enough detail to indicate the various key components of the project.

ii. Document the matching funds, including amount and source of the match (may include local or private sector financial participation in the project), or documents supporting the commitment of non-federal funding to the project, or a timeframe upon which those commitments would be made.

Applicants may attach to the supplemental form supporting materials and documentation as appropriate. Applicants are encouraged to clearly reference all attachments in the Applicant and Proposal supplemental form. Suggested attachments include graphics, maps, letters of support, and other documents to support the proposal.

3. Unique Entity Identifier and System for Award Management (SAM)

Registration in Brief: Registration can take as little as 3-5 business days, but since there could be unexpected steps or delays (for example, if you need to obtain an Employer Identification Number), FTA recommends allowing ample time, up to several weeks, for completion of all steps.

STEP 1: Obtain DUNS Number: Same day. If requested by phone (1-866-705-5711) DUNS is provided immediately. If your organization does not have one, you will need to go to the Dun & Bradstreet Web site at http://fedgov.dnb.com/webform to obtain the number.

STEP 2: Register With SAM: Three to five business days or up to two weeks. If you already have a Taxpayer ID Number, your SAM registration will take 3-5 business days to process. If you are applying for an Employer Identification Number please allow up to two weeks. Ensure that your organization is registered with the System for Award Management (SAM). www.sam.gov. If your organization is not, an authorizing official of your organization must register.

STEP 3: Username & Password: Same day. Complete your AOR (Authorized Organization Representative) profile on Grants.gov and create your username and password. You will need to use your organization's DUNS Number to complete this step. https://apply07.grants.gov/apply/OrcRegister.

STEP 4: AOR Authorization: Same day (depending on responsiveness of your E-Biz POC). The E-Business Point of Contact (E-Biz POC) at your organization must login to Grants.gov to confirm you as an Authorized Organization Representative (AOR). Please note that there can be more than one AOR for your organization. In some cases the E-Biz POC is also the AOR for an organization.

STEP 5: TRACK AOR STATUS: At any time, you can track your AOR status by logging in with your username and password. Login as an Applicant (enter your username & password you obtained in Step 3) under applicant profile.

4. Submission Dates and Times

Project proposals must be submitted electronically through http://www.GRANTS.GOV by 11:59 p.m. EDT on July 5, 2016.

5. Funding Restrictions

Funds under this NOFO cannot be used to reimburse projects for otherwise eligible expenses incurred prior to FTA award of a Grant Agreement or Cooperative Agreement unless FTA has issued a “Letter of No Prejudice” for the project before the expenses are incurred.

The MOD Sandbox Program is a research and development effort and as such FTA Research Circular 6100.1E rules will apply in administering the program.

E. Application Review

1. Selection Criteria

Projects will be evaluated by FTA according to the following five evaluation criteria and based on the information provided in each proposal. FTA strongly encourages each proposer to demonstrate the responsiveness of a project to all criteria shown below with the most relevant information that the proposer can provide.

The FTA will assess the extent to which a project addresses the following criteria:

a. Project Impact and Outcomes—Extent to which the project is consistent with overarching MOD goals to deliver high quality, seamless, accessible, and equitable mobility options to all travelers; provides support for the MOD Sandbox Program objectives; provides a platform for integration of mobility options in a community; and has national or regional applicability by providing a replicable model for other communities.

b. Project Approach and Business Model—Quality of the project approach and business model, including interface design, existing partnerships and local efforts toward MOD, collaboration strategies among the project partners, mechanism for involving travelers in the process and strategy for garnering support from the community. Projects will also be evaluated on the extent to which the proposed project incorporates innovative technologies and practices; the ability of the team to implement the demonstration effort within 12 months of program selection; and the extent to which the proposed business model is sustainable beyond the MOD Sandbox project period of performance.

c. Team Capacity and Commitment—Extent to which the team can successfully implement the proposed project, including the qualifications and experience of the team and their documented commitment to the project objectives. Evaluation includes project management and technical capabilities of the team, including past program management performance, quality and availability of match, and evidence of commitment, such as partnership agreements or letter of commitment from project partners.

d. Equity and Accessibility—Extent to which the proposed project addresses equity and accessibility to transportation systems and incorporates a service-to-all approach that provides mechanisms for all travelers to participate and benefit from the MOD concepts and outcomes

e. Support for Data Collection and Evaluation—Documented commitment to participate in data collection, evaluation and transfer of lessons learned. Documented willingness to participate in data collection and evaluation including an expressed commitment from the project team to grant access to project related data to FTA or FTA's designee to facilitate effective evaluation of project impacts.

2. Review and Selection Process

A technical evaluation panel comprising FTA and other U.S. DOT staff will review project proposals against the evaluation criteria listed above. The technical evaluation committee may seek clarification from any proposer about any statement made in a proposal. The FTA may also request additional documentation or information to be considered during the evaluation process. After the evaluation of all eligible proposals, the technical evaluation committee will provide project recommendations to the FTA Administrator. The FTA Administrator will determine the final list of project selections, and the amount of funding for each project. Geographic diversity, diversity of project type, and the applicant's receipt of other Federal funding may be considered in FTA's award decisions.

F. Federal Award Administration

The FTA intends to fund multiple meritorious projects to support executing eligible project activities. Due to funding limitations, proposers that are selected for funding may receive less than the amount originally requested.

1. Federal Award Notice

Subsequent to an announcement by the Federal Transit Administration of the final project selections posted on the FTA Web site, FTA may publish a list of the selected projects, including Federal dollar amounts and recipients.

2. Administrative and National Policy Requirements

a. Pre-Award Authority

The FTA will issue specific guidance to recipients regarding pre-award authority at the time of selection. The FTA does not provide pre-award authority for competitive funds until projects are selected and even then there are Federal requirements that must be met before costs are incurred. Preparation of proposals is not an eligible pre-award expense.

b. Grant Requirements

Successful proposals will be awarded through FTA's Transit Award Management System (TrAMS) as Cooperative Agreements.

c. Planning

The FTA encourages proposers to engage the appropriate State Departments of Transportation, Regional Transportation Planning Organizations, or Metropolitan Planning Organizations in areas likely to be served by the project funds made available under this programs.

d. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

e. Reporting

Post-award reporting requirements include submission of Federal Financial Reports and Milestone Reports in FTA's electronic grants management system on a quarterly basis for all projects.

G. Federal Awarding Agency Contacts

For further information concerning this notice please contact the FTA MOD Program staff via email at MODSandbox@dot.gov, or contact Christina Gikakis, FTA MOD Program manager, at 202-366-2637. A TDD is available for individuals who are deaf or hard of hearing at 1-800-877-8339.

Carolyn Flowers,
Acting Administrator.

[FR Doc. 2016-10320 Filed 5-2-16; 8:45 am]

BILLING CODE P